DEPARTMENT OF HOMELAND SECURITY

U.S. Citizenship and Immigration Services

[CIS No. 2622-18; DHS Docket No. USCIS-2015-0003]

RIN 1615-ZB74

Termination of the Designation of Nepal for Temporary Protected Status

AGENCY: U.S. Citizenship and Immigration Services, U.S. Department of Homeland Security.

ACTION: Notice.

SUMMARY: The designation of Nepal for Temporary Protected Status (TPS) is set to expire on June 24, 2018. After reviewing country conditions and consulting with appropriate U.S. Government agencies, the Secretary of Homeland Security has determined that conditions in Nepal no longer support its designation for TPS and that termination of the TPS designation of Nepal is required pursuant to statute. To provide time for an orderly transition, the Secretary is terminating the designation effective on June 24, 2019, which is 12 months following the end of the current designation.

Nationals of Nepal (and aliens having no nationality who last habitually resided in Nepal) who have been granted TPS and wish to maintain their TPS and receive TPS-based Employment Authorization Documents (EAD) valid through June 24, 2019, must re-register for TPS in accordance with the procedures set forth in this Notice. After June 24, 2019, nationals of Nepal (and aliens having no nationality who last habitually resided in Nepal) who have been granted TPS under the Nepal designation will no longer have TPS.

DATES: The designation of Nepal for TPS is terminated effective at 11:59 p.m., local time, on June 24, 2019.

The 60-day re-registration period runs from May 22, 2018 through July 23, 2018. (Note: It is important for re-registrants to timely re-register during this 60-day period.)

FOR FURTHER INFORMATION CONTACT:

• You may contact Samantha Deshommes, Branch Chief, Regulatory Coordination Division, Office of Policy and Strategy, U.S. Citizenship and Immigration Services, U.S. Department of Homeland Security, 20 Massachusetts Avenue NW, Washington, DC 20529-2060; or by phone at 800-375-5283.

• For further information on TPS, including guidance on the re-registration process and additional information on eligibility, please visit the USCIS TPS web page at http://www.uscis.gov/tps. You can find specific information about this termination of Nepal's TPS by selecting “Nepal” from the menu on the left side of the TPS web page.

• If you have additional questions about Temporary Protected Status, please visit uscis.gov/tools. Our online virtual assistant, Emma, can answer many of your questions and point you to additional information on our website. If you are unable to find your answers there, you may also call our USCIS Contact Center at 800-375-5283.

• Applicants seeking information about the status of their individual cases may check Case Status Online, available on the USCIS website at http://www.uscis.gov, or call the USCIS Contact Center at 800-375-5283 (TTY 800-767-1833). Service is available in English and Spanish.

• Further information will also be available at local USCIS offices upon publication of this Notice.

SUPPLEMENTARY INFORMATION:

Table of Abbreviations

BIA—Board of Immigration Appeals

CFR—Code of Federal Regulations

DHS—U.S. Department of Homeland Security

DOS—Department of State

EAD—Employment Authorization Document

FNC—Final Nonconfirmation

FR—Federal Register

Government—U.S. Government

IJ—Immigration Judge

INA—Immigration and Nationality Act

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Through this Notice, DHS sets forth procedures necessary for eligible nationals of Nepal (or aliens having no nationality who last habitually resided in Nepal) to re-register for TPS and to apply for renewal of their EADs with USCIS. Re-registration is limited to persons who have previously registered for TPS under the designation of Nepal and whose applications have been granted.

For individuals who have already been granted TPS under Nepal's designation, the 60-day re-registration period runs from May 22, 2018 through July 23, 2018. USCIS will issue new EADs with a June 24, 2019 expiration date to eligible Nepali TPS beneficiaries who timely re-register and apply for EADs. Given the timeframes involved with processing TPS re-registration applications, DHS recognizes that not all re-registrants will receive new EADs before their current EADs expire on June 24, 2018. Accordingly, through this Federal Register notice, DHS automatically extends the validity of EADs issued under the TPS designation of Nepal for 180 days, through December 21, 2018. This Notice explains how TPS beneficiaries and their employers may determine which EADs are automatically extended and how this affects the Form I-9, Employment Eligibility Verification, and E-Verify processes.

What is Temporary Protected Status (TPS)?

• TPS is a temporary immigration status granted to eligible nationals of a country designated for TPS under the INA, or to eligible persons without nationality who last habitually resided in the designated country.

• During the TPS designation period, TPS beneficiaries are eligible to remain in the United States, may not be removed, and are authorized to obtain EADs, so long as they continue to meet the requirements of TPS.

• TPS beneficiaries may also apply for and be granted travel authorization as a matter of discretion.

• The granting of TPS does not result in or lead to lawful permanent resident status.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid beyond the date TPS terminates.

When was Nepal designated for TPS?

On June 24, 2015, former Secretary of Homeland Security Jeh Johnson designated Nepal for TPS based environmental disaster grounds as a result of the magnitude 7.8 earthquake that occurred on April 25, 2015. See Designation of Nepal for Temporary Protected Status, 80 FR. 36346 (June 24, 2015). On October 26, 2016, former Secretary Johnson announced an 18-month extension of Nepal's TPS designation, effective December 25, 2016 through June 24, 2018. See Extension of the Designation of Nepal for Temporary Protected Status, 81 FR 74470 (October 26, 2016).

What authority does the Secretary have to terminate the designation of Nepal for TPS?

Section 244(b)(1) of the INA, 8 U.S.C. 1254a(b)(1), authorizes the Secretary, after consultation with appropriate U.S. Government agencies, to designate a foreign state (or part thereof) for TPS if the Secretary determines that certain country conditions exist.¹ The Secretary may then grant TPS to eligible nationals of that foreign state (or eligible aliens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the U.S. Department of Justice to the U.S. Department of Homeland Security (DHS) “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in the foreign state designated for TPS to determine whether the conditions for the TPS designation continue to be met. See INA section 244(b)(3)(A), 8 U.S.C. 1254a(b)(3)(A). If the Secretary determines that the foreign state continues to meet the conditions for TPS designation, the designation must be extended for an additional period of 6 months and, in the Secretary's discretion, may be extended for 12 or 18 months. See INA section 244(b)(3)(C), 8 U.S.C. 1254a(b)(3)(C). If the Secretary determines that the foreign state no longer continues to meet the conditions for TPS designation, the Secretary must terminate the designation, but such termination may not take effect earlier than 60 days after the date the Federal Register notice of termination is published, or, if later, the expiration of the most recent previous extension of the country's TPS designation. See INA section 244(b)(3)(B), 8 U.S.C. 1254a(b)(3)(B). The Secretary may determine the appropriate effective date of the termination and the expiration of any TPS-related documentation, such as EADs, for the purpose of providing for an orderly transition. See id.; INA section 244(d)(3), 8 U.S.C. 1254a(d)(3).

Why is the Secretary terminating the TPS designation for Nepal as of June 24, 2019?

DHS has reviewed conditions in Nepal. Based on the review—which considered input received from other appropriate U.S. Government agencies, including the Department of State—the Secretary of Homeland Security has determined that the conditions supporting Nepal's 2015 designation for TPS on the basis of environmental disaster due to the April 25, 2015 earthquake are no longer met. Nepal has made considerable progress in post-earthquake recovery and reconstruction, and conditions in Nepal have significantly improved since the country's last TPS extension in 2016. The substantial disruption to living conditions has subsided for many of the Nepalis impacted by the earthquake. The number of citizens with access to clean water and sanitation has significantly increased, and reconstruction of thousands of homes has been completed or is underway. Schools and hospitals are functioning, and roads are being rebuilt. Additionally, government ministries and agencies are functioning at pre-earthquake levels, and Nepal is no longer temporarily unable to handle adequately the return of its nationals.

Nepal has received a significant amount of international aid to assist in earthquake recovery efforts, which enabled the completion of many reconstruction projects and will support ongoing reconstruction for years to come. Nepal has made good progress in housing reconstruction, with slightly more than one in seven homes destroyed having been fully rebuilt and more than half of homes under construction. For the most part, schools and health facilities have resumed operating at levels consistent with the state of public services in other areas of Nepal. Nationwide, only 11 percent of schools and less than 9 percent of health facilities remain impacted by earthquake damage. Access to clean water has generally returned to pre-earthquake levels, and there has been a gradual improvement in food security in areas most affected by the earthquake. In areas still waiting for community water systems to be rebuilt, communities have access to clean water from other sources. All national-level and most subnational-level infrastructure damaged by the earthquake has been retrofitted or rebuilt.

Thousands of Nepalis return annually to Nepal after working abroad, and the Government has been able to accommodate the return of these citizens. In addition to receiving its returning nationals, Nepal is welcoming tourists, who are visiting Nepal at higher rates than before the earthquake. DHS estimates that there are approximately 14,800 nationals of Nepal (and aliens having no nationality who last habitually resided in Nepal) who hold TPS under Nepal's designation.

Notice of Termination of the TPS Designation of Nepal

By the authority vested in the Secretary of Homeland Security under INA section 244(b)(3), 8 U.S.C. 1254a(b)(3), I have determined, after consultation with appropriate U.S. Government agencies, that the conditions for the designation of Nepal for TPS under 244(b)(1)(B) of the INA, 8 U.S.C. 1254a(b)(1)(B), are no longer met. Accordingly, I order as follows:

(1) Pursuant to INA section 244(b)(3)(B) and in accordance with INA section 244(d)(3), in order to provide for an orderly transition, the designation of Nepal for TPS is terminated effective at 11:59 p.m., local time, on June 24, 2019, which is 12 months following the end of the current designation.

(2) Information concerning the termination of TPS for nationals of Nepal (and aliens having no nationality who last habitually resided in Nepal) will be available at local USCIS offices upon publication of this Notice and through the USCIS Contact Center at 1-800-375-5283. This information will be published on the USCIS website at www.uscis.gov.

Kirstjen M. Nielsen,
Secretary.

Required Application Forms and Application Fees To Re-Register for TPS

To re-register for TPS based on the designation of Nepal, you must submit an Application for Temporary Protected Status (Form I-821). You do not need to pay the filing fee for the Form I-821. See 8 CFR 244.17. You may be required to pay the biometric services fee. Please see additional information under the “Biometric Services Fee” section of this Notice.

Through operation of this Federal Register notice, your existing EAD issued under the TPS designation of Nepal with the expiration date of June 24, 2018, is automatically extended for 180 days, through December 21, 2018. You do not need to apply for a new EAD in order to benefit from this 180-day automatic extension. However, if you want to obtain a new EAD valid through June 24, 2019, you must file an Application for Employment Authorization (Form I-765) and pay the Form I-765 fee (or request a fee waiver). Note, if you do not want a new EAD, you do not have to file Form I-765 or pay the Form I-765 fee. If you do not want to request a new EAD now, you may also file Form I-765 at a later date and pay the fee (or request a fee waiver), provided that you still have TPS or a pending TPS application. But unless you timely re-register and properly file an EAD application in accordance with this Notice, the validity of your current EAD will end on December 21, 2018. You may file the application for a new EAD either prior to or after your current EAD has expired. However, you are strongly encouraged to file your application for a new EAD as early as possible to avoid gaps in the validity of your employment authorization documentation and to ensure that you receive your new EAD by December 21, 2018.

If you are seeking an EAD with your re-registration for TPS, please submit both the Form I-821 and Form I-765 together. If you are unable to pay the application fee and/or biometric services fee, you may complete a Request for Fee Waiver (Form I-912) or submit a personal letter requesting a fee waiver with satisfactory supporting documentation. For more information on the application forms and fees for TPS, please visit the USCIS TPS web page at http://www.uscis.gov/tps. Fees for the Form I-821, the Form I-765, and biometric services are also described in 8 CFR 103.7(b)(1)(i).

Note: If you have a Form I-821 and/or Form I-765 that was still pending as of May 22, 2018, then you do not need to file either application again. If your pending TPS application is approved, you will be granted TPS through June 24, 2019. Similarly, if you have a pending TPS-related application for an EAD that is approved, it will be valid through the same date.

Biometric Services Fee

Biometrics (such as fingerprints) are required for all applicants 14 years and older. Those applicants must submit a biometric services fee. As previously stated, if you are unable to pay for the biometric services fee, you may complete a Form I-912 or submit a personal letter requesting a fee waiver with satisfactory supporting documentation. For more information on the biometric services fee, please visit the USCIS website at http://www.uscis.gov. If necessary, you may be required to visit an Application Support Center to have your biometrics captured. For additional information on the USCIS biometrics screening process please see the USCIS Customer Profile Management Service Privacy Impact Assessment, available at www.dhs.gov/privacy.

Refiling a Re-Registration TPS Application After Receiving a Denial of a Fee Waiver Request

You should file as soon as possible within the 60-day re-registration period so USCIS can process your application and issue any EAD promptly. Properly filing early will also allow you to have time to refile your application before the deadline, should USCIS deny your fee waiver request. If, however, you receive a denial of your fee waiver request and are unable to refile by the re-registration deadline, you may still refile your Form I-821 with the biometrics fee. This situation will be reviewed to determine whether you established good cause for late TPS re-registration. However, you are urged to refile within 45 days of the date on any USCIS fee waiver denial notice, if possible. See INA section 244(c)(3)(C); 8 U.S.C. 1254a(c)(3)(C); 8 CFR 244.17(b). For more information on good cause for late re-registration, visit the USCIS TPS web page at http://www.uscis.gov/tps. Following denial of your fee waiver request, you may also refile your Form I-765 with fee either with your Form I-821 or at a later time, if you choose.

Note: Although a re-registering TPS beneficiary age 14 and older must pay the biometric services fee (but not the Form I-821 fee) when filing a TPS re-registration application, you may decide to wait to request an EAD. Therefore, you do not have to file the Form I-765 or pay the associated Form I-765 fee (or request a fee waiver) at the time of re-registration, and could wait to seek an EAD until after USCIS has approved your TPS re-registration application. If you choose to do this, to re-register for TPS you would only need to file the Form I-821 with the biometrics services fee, if applicable, (or request a fee waiver).

Mailing Information

Mail your application for TPS to the proper address in Table 1.

Table 1—Mailing Addresses
If you are sending your application by: | Mail your application to:
U.S. Postal Service | U.S. Citizenship and Immigration Services, Attn: TPS Nepal, P.O. Box 6943, Chicago, IL 60680-6943.
A non-U.S. Postal Service courier | U.S. Citizenship and Immigration Services, Attn: TPS Nepal, 131 S. Dearborn—3rd Floor, Chicago, IL 60603-5517.

If you were granted TPS by an Immigration Judge (IJ) or the Board of Immigration Appeals (BIA) and you wish to request an EAD or are re-registering for the first time following a grant of TPS by an IJ or the BIA, please mail your application to the appropriate mailing address in Table 1. When re-registering and requesting an EAD based on an IJ/BIA grant of TPS, please include a copy of the IJ or BIA order granting you TPS with your application. This will help us to verify your grant of TPS and process your application.

Supporting Documents

The filing instructions on the Form I-821 list all the documents needed to establish eligibility for TPS. You may also find information on the acceptable documentation and other requirements for applying or registering for TPS on the USCIS website at www.uscis.gov/tps under “Nepal.”

Employment Authorization Document (EAD)

How can I obtain information on the status of my EAD request?

To get case status information about your TPS application, including the status of an EAD request, you can check Case Status Online at http://www.uscis.gov, or call the USCIS National Contact Center at 800-375-5283 (TTY 800-767-1833). If your Form I-765 has been pending for more than 90 days, and you still need assistance, you may request an EAD inquiry appointment with USCIS by using the InfoPass system at https://infopass.uscis.gov. However, we strongly encourage you first to check Case Status Online or call the USCIS National Contact Center for assistance before making an InfoPass appointment.

Am I eligible to receive an automatic 180-day extension of my current EAD through December 21, 2018, using this Federal Register notice?

Yes. Provided that you currently have a Nepal TPS-based EAD, this Federal Register notice automatically extends your EAD by 180 days (through December 21, 2018) if you:

• Are a national of Nepal (or an alien having no nationality who last habitually resided in Nepal);

• Have an EAD with a marked expiration date of June 24, 2018, bearing the notation A-12 or C-19 on the face of the card under Category.

Although this Federal Register notice automatically extends your EAD through December 21, 2018, you must re-register timely for TPS in accordance with the procedures described in this Federal Register notice if you would like to maintain your TPS.

When hired, what documentation may I show to my employer as evidence of employment authorization and identity when completing Employment Eligibility Verification (Form I-9)?

You can find a list of acceptable document choices on the “Lists of Acceptable Documents” for Form I-9. Employers must complete Form I-9 to verify the identity and employment authorization of all new employees. Within three days of hire, employees must present acceptable documents to their employers as evidence of identity and employment authorization to satisfy Form I-9 requirements.

You may present any document from List A (which provides evidence of both identity and employment authorization), or one document from List B (which provides evidence of your identity) together with one document from List C (which is evidence of employment authorization), or you may present an acceptable receipt for List A, List B, or List C documents as described in the Form I-9 Instructions. Employers may not reject a document based on a future expiration date. You can find additional detailed information about Form I-9 on USCIS' I-9 Central web page at http://www.uscis.gov/I-9Central.

An EAD is an acceptable document under List A. If your EAD has an expiration date of June 24, 2018, and states A-12 or C-19 under Category, it has been extended automatically for 180 days by virtue of this Federal Register notice and you may choose to present this Notice along with your EAD to your employer as proof of identity and employment eligibility for Form I-9 through December 21, 2018, unless your TPS has been withdrawn or your request for TPS has been denied. If you properly filed for a new EAD in accordance with this Notice, you will also receive Form I-797C, Notice of Action that will state your current A-12 or C-19 coded EAD is automatically extended for 180 days. You may choose to present your EAD to your employer together with this Form I-797C as a List A document that provides evidence of your identity and employment authorization for Form I-9 through December 21, 2018, unless your TPS has been withdrawn or your request for TPS has been denied. See the subsection titled, “How do my employer and I complete the Employment Eligibility Verification (Form I-9) using an automatically extended EAD for a new job?” for further information.

To reduce confusion over this extension at the time of hire, you should explain to your employer that your EAD has been automatically extended through December 21, 2018. You may also provide your employer with a copy of this Federal Register notice, which explains that your EAD has been automatically extended. As an alternative to presenting evidence of your automatically extended EAD, you may choose to present any other acceptable document from List A, a combination of one selection from List B and one selection from List C, or a valid receipt.

What documentation may I present to my employer for Employment Eligibility Verification (Form I-9) if I am already employed but my current TPS-related EAD is set to expire?

Even though your EAD has been automatically extended, your employer is required by law to ask you about your continued employment authorization no later than before you start work on June 25, 2018. You will need to present your employer with evidence that you are still authorized to work. Once presented, you may correct your employment authorization expiration date in Section 1 and your employer should correct the EAD expiration date in Section 2 of Form I-9. See the subsection titled, “What corrections should my current employer and I make to Employment Eligibility Verification (Form I-9) if my employment authorization has been automatically extended?” for further information. You may show this Federal Register notice to your employer to explain what to do for Form I-9 and to show that your EAD has been automatically extended through December 21, 2018. Your employer may need to reinspect your automatically extended EAD to check the expiration date and Category code if your employer did not keep a copy of this EAD when you initially presented it. In addition, if you properly filed your Form I-765 to obtain a new EAD, you will receive a Form I-797C, Notice of Action. Form I-797C will state that your current A-12 or C-19 coded EAD is automatically extended for 180 days. You may present Form I-797C to your employer along with your EAD to confirm that the validity of your EAD has been automatically extended through December 21, 2018, unless your TPS has been withdrawn or your request for TPS has been denied. To reduce the possibility of gaps in your employment authorization documentation, you should file your Form I-765 to request a new EAD as early as possible during the re-registration period.

The last day of the automatic EAD extension is December 21, 2018. Before you start work on December 22, 2018, your employer must reverify your employment authorization. At that time, you must present any document from List A or any document from List C on Form I-9 Lists of Acceptable Documents, or an acceptable List A or List C receipt described in the Form I-9 Instructions to reverify employment authorization.

By December 22, 2018, your employer must complete Section 3 of the current version of the form, Form I-9 07/17/17 N, and attach it to the previously completed Form I-9, if your original Form I-9 was a previous version. Your employer can check the USCIS' I-9 Central web page at http://www.uscis.gov/I-9Central for the most current version of Form I-9.

Note that your employer may not specify which List A or List C document you must present and cannot reject an acceptable receipt.

Can my employer require that I provide any other documentation to prove my status, such as proof of my Nepali citizenship?

No. When completing Form I-9, including reverifying employment authorization, employers must accept any documentation that appears on the Form I-9 “Lists of Acceptable Documents” that reasonably appears to be genuine and that relates to you, or an acceptable List A, List B, or List C receipt. Employers need not reverify List B identity documents. Employers may not request documentation that does not appear on the “Lists of Acceptable Documents.” Therefore, employers may not request proof of Nepali citizenship or proof of re-registration for TPS when completing Form I-9 for new hires or reverifying the employment authorization of current employees. If presented with EADs that have been automatically extended, employers should accept such documents as a valid List A document so long as the EAD reasonably appears to be genuine and relates to the employee. Refer to the Note to Employees section of this Federal Register notice for important information about your rights if your employer rejects lawful documentation, requires additional documentation, or otherwise discriminates against you based on your citizenship or immigration status, or your national origin.

How do my employer and I complete Employment Eligibility Verification (Form I-9) using my automatically extended employment authorization for a new job?

When using an automatically extended EAD to complete Form I-9 for a new job before December 22, 2018, you and your employer should do the following:

1. For Section 1, you should:

a. Check “An alien authorized to work until” and enter December 21, 2018, the automatically extended EAD expiration date as the expiration date; and

b. Enter your Alien Number/USCIS number or A-Number where indicated (your EAD or other document from DHS will have your USCIS number or A-Number printed on it; the USCIS number is the same as your A-Number without the A prefix).

2. For Section 2, employers should:

a. Determine if the EAD is auto-extended for 180 days by ensuring it is in category A-12 or C-19 and has a June 24, 2018 expiration date;

b. Write in the document title;

c. Enter the issuing authority;

d. Provide the document number; and

e. Write December 21, 2018, as the expiration date.

If you also filed for a new EAD, as proof of the automatic extension of your employment authorization, you may present your expired or expiring EAD with category A-12 or C-19 in combination with the Form I-797C Notice of Action showing that the EAD renewal application was filed and that the qualifying eligibility category is either A-12 or C-19. Unless your TPS has been withdrawn or your request for TPS has been denied, this document combination is considered an unexpired EAD under List A. In these situations, to complete Section 2, employers should:

a. Determine if the EAD is auto-extended for 180 days by ensuring:

• It is in category A-12 or C-19; and

• The category code on the EAD is the same category code on Form I-797C, noting that employers should consider category codes A-12 and C-19 to be the same category code.

b. Write in the document title;

c. Enter the issuing authority;

d. Provide the document number; and

e. Write December 21, 2018, as the expiration date. Before the start of work on December 22, 2018, employers must reverify the employee's employment authorization in Section 3 of Form I-9.

What corrections should my current employer and I make to Employment Eligibility Verification (Form I-9) if my employment authorization has been automatically extended?

If you presented a TPS-related EAD that was valid when you first started your job and your EAD has now been automatically extended, your employer may need to re-inspect your current EAD if they do not have a copy of the EAD on file. You may, and your employer should, correct your previously completed Form I-9 as follows:

1. For Section 1, you may:

a. Draw a line through the expiration date in Section 1;

b. Write December 21, 2018, above the previous date (June 24, 2018); and

c. Initial and date the correction in the margin of Section 1.

2. For Section 2, employers should:

a. Determine if the EAD is auto-extended for 180 days by ensuring:

• It is in category A-12 or C-19; and

• Has an expiration date of June 24, 2018.

b. Draw a line through the expiration date written in Section 2;

c. Write December 21, 2018, above the previous date (June 24, 2018); and

d. Initial and date the correction in the Additional Information field in Section 2.

In the alternative, you may present your expired EAD with category A-12 or C-19 in combination with the Form I-797C Notice of Action. The Form I-797C should show that the qualifying eligibility category is either A-12 or C-19. To avoid confusion, you may also provide your employer a copy of this Notice. Your employer should correct your previously completed Form I-9 as follows:

For Section 2, employers should:

a. Determine if the EAD is auto-extended for 180 days by ensuring:

• It is in category A-12 or C-19; and

• The category code on the EAD is the same category code on Form I-797C, noting that employers should consider category codes A-12 and C-19 to be the same category code.

b. Draw a line through the expiration date written in Section 2;

c. Write December 21, 2018, above the previous date (June 24, 2018); and

d. Initial and date the correction in the Additional Information field in Section 2.

Note: This is not considered a reverification. Employers do not need to complete Section 3 until either the 180-day automatic extension has ended or the employee presents a new document to show continued employment authorization, whichever is sooner. By December 22, 2018, when the employee's automatically extended EAD has expired, employers must reverify the employee's employment authorization in Section 3.

If I am an employer enrolled in E-Verify, how do I verify a new employee whose EAD has been automatically extended?

Employers may create a case in E-Verify for a new employee using the EAD bearing the expiration date June 24, 2018, or the Form I-797C receipt information provided on Form I-9. In either case, the receipt number entered as the document number on Form I-9 should be entered into the document number field in E-Verify.

If I am an employer enrolled in E-Verify, what do I do when I receive a “Work Authorization Documents Expiration” alert for an automatically extended EAD?

E-Verify automated the verification process for employees whose TPS-related EAD was automatically extended. If you have employees who are TPS beneficiaries who provided a TPS-related EAD when they first started working for you, you will receive a “Work Authorization Documents Expiring” case alert when the auto-extension period for this EAD is about to expire. The alert indicates that before this employee starts to work on December 22, 2018, you must reverify their employment authorization in Section 3 of Form I-9. Employers should not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I9Central@dhs.gov. Calls and emails are accepted in English and many other languages. For questions about avoiding discrimination during the employment eligibility verification process (Form I-9 and E-Verify), employers may call the U.S. Department of Justice's Civil Rights Division, Immigrant and Employee Rights Section (IER) (formerly the Office of Special Counsel for Immigration-Related Unfair Employment Practices) Employer Hotline at 800-255-8155 (TTY 800-237-2515). The IER offers language interpretation in numerous languages. Employers may also email IER at IER@usdoj.gov.

Note to Employees

For general questions about the employment eligibility verification process, employees may call USCIS at 888-897-7781 (TTY 877-875-6028) or email USCIS at I-9Central@dhs.gov. Calls are accepted in English, Spanish, and many other languages. Employees or applicants may also call the IER Worker Hotline at 800-255-7688 (TTY 800-237-2515) for information regarding employment discrimination based upon citizenship, immigration status, or national origin, including discrimination related to Employment Eligibility Verification (Form I-9) and E-Verify. The IER Worker Hotline provides language interpretation in numerous languages.

To comply with the law, employers must accept any document or combination of documents from the Lists of Acceptable Documents if the documentation reasonably appears to be genuine and to relate to the employee, or an acceptable List A, List B, or List C receipt as described in the Employment Eligibility Verification (Form I-9) Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from an employee's Form I-9 differs from Federal or state government records.

Employers may not terminate, suspend, delay training, withhold pay, lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS website at http://www.dhs.gov/E-verify.

Note Regarding Federal, State, and Local Government Agencies (Such as Departments of Motor Vehicles)

While Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples of such documents are:

(1) Your current EAD;

(2) A copy of your Notice of Action (Form I-797C), the notice of receipt, for your application to renew your current EAD providing an automatic extension of your currently expired or expiring EAD;

(3) A copy of your Notice of Action (Form I-797C), the notice of receipt, for your Application for Temporary Protected Status for this re-registration; and

(4) A copy of your Notice of Action (Form I-797), the notice of approval, for a past or current Application for Temporary Protected Status, if you received one from USCIS.

Check with the government agency regarding which document(s) the agency will accept. Some benefit-granting agencies use the USCIS Systematic Alien Verification for Entitlements (SAVE) program to confirm the current immigration status of applicants for public benefits. In most cases, SAVE provides an automated electronic response to benefit-granting agencies within seconds, but, occasionally, verification can be delayed. You can check the status of your SAVE verification by using CaseCheck at the following link: https://save.uscis.gov/casecheck/, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found on the SAVE website at http://www.uscis.gov/save.

[FR Doc. 2018-10868 Filed 5-21-18; 8:45 am]

BILLING CODE 9111-97-P